DEPARTMENT OF EDUCATION

Applications for New Awards; Demonstration Grants for Indian Children and Youth Program—Native Youth Community Projects; Corrections

AGENCY: Office of Elementary and Secondary Education, Department of Education.

ACTION: Notice; corrections.

SUMMARY: On January 17, 2025, the Department of Education (Department) published in the Federal Register a notice inviting applications (NIA) for the fiscal year (FY) 2025 Demonstration Grants for Indian Children and Youth Program (Demonstration program) competition. The Department is correcting the NIA by amending the Background information, editing Table 1, revising a requirement to reflect the precise statutory language, and amending certain selection criteria. In addition, we are updating the dates of the pre-application webinars and extending the deadline date for the transmittal of applications together with the intergovernmental review deadline. All other information in the NIA remains the same.

DATES: These corrections are applicable on April 3, 2025.

FOR FURTHER INFORMATION CONTACT: Donna Bussell, U.S. Department of Education, 400 Maryland Avenue SW, Room 3W239, Washington, DC 20202-6335. Telephone: (202) 987-0204. Email: donna.bussell@ed.gov.

If you are deaf, hard of hearing, or have a speech disability and wish to access telecommunications relay services, please dial 7-1-1.

SUPPLEMENTARY INFORMATION: On January 17, 2025, the Department published in the Federal Register an NIA for the FY 2025 Demonstration Grants for Indian Children and Youth Program (Demonstration program) competition. The Department is correcting the NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding. Specifically, the Department is amending the Background information, editing Table 1, revising a requirement to reflect the precise statutory language, and amending certain selection criteria. In addition, we are updating the dates of the pre-application webinars and extending the deadline date for the transmittal of applications together with the intergovernmental review deadline. All other information in the NIA remains the same.

The Department will not consider applications submitted prior to [INSERT DATE OF PUBLICATION IN THE FEDERAL REGISTER]. Applicants that have already submitted an application under the Demonstration program must submit an updated application on or before the extended application deadline of May 8, 2025, for the application to be reviewed. Program staff will endeavor to notify applicants that have already submitted an application of the requirement to submit an updated application. The Department will consider the application that is last submitted and timely received by 11:59:59 p.m., Eastern Time, on May 8, 2025.

Program Authority: 20 U.S.C. 7441.

Corrections

In, FR Doc. 2025-01238 published in the Federal Register on January 17, 2025 (90 FR 5838) we make the following corrections:

1. On page 5838, in the second column, revise the text under DATES to read as follows:

Applications Originally Available: January 17, 2025.

Updated Application Instructions Available: April 7, 2025.

Date of Pre-Application Webinar: April 7, 2025.

Deadline for Notice of Intent to Apply: March 28, 2025.

Deadline for Transmittal of Applications: May 8, 2025.

Deadline for Intergovernmental Review: July 7, 2025.

2. On page 5839, in the first and second columns, in the fourth full paragraph under the “4. Background” heading, make the following corrections:

a. In the first sentence, remove the words “promoting equity in achievement”.

b. In the second sentence, remove the words “that are inclusive, developmentally informed, and linguistically and culturally responsive”.

3. On page 5839, in Table 1 entitled Summary of Notice Inviting Applications (NIA) Sections That Must Be Addressed for Your Application To Be Considered, in the Description column for Application Requirements, remove the words “and Culturally Appropriate” from (c).

4. On page 5840, in the third column, revise the text under the heading “Application Requirements:” in paragraph (c) to read: “Information demonstrating that the proposed program is an evidence-based program, where applicable, which may include a program that has been modified to be culturally appropriate for students who will be served.”

5. On page 5841, in the third column, under the Quality of project personnel heading, replace paragraph (c)(4) with the following language: “The extent to which the proposed planning, implementing, and evaluating project team are familiar with the assets, needs, and other contextual considerations of the proposed implementation sites. (Up to 4 points)”.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary Office of Elementary and Secondary Education.

[FR Doc. 2025-05721 Filed 4-2-25; 8:45 am]

BILLING CODE 4000-01-P